EXPORT-IMPORT BANK

[Public Notice: 2017-6013]

Agency Information Collection Activities: Comment Request

AGENCY: Export-Import Bank of the United States.

ACTION: Submission for OMB review and comments request.

SUMMARY: The Export-Import Bank of the United States (EXIM), as part of its continuing effort to reduce paperwork and respondent burden, invites the general public and other Federal Agencies to comment on the proposed information collection, as required by the Paperwork Reduction Act of 1995.

This collection of information is necessary to determine eligibility of the export sales for insurance coverage. The Report of Premiums Payable for Financial Institutions Only is used to determine the eligibility of the shipment(s) and to calculate the premium due to EXIM for its support of the shipment(s) under its insurance program. EXIM customers will be able to submit this form on paper or electronically.

By neutralizing the effect of export credit support offered by foreign governments and by absorbing credit risks that the private sector will not accept, EXIM enables U.S. exporters to compete fairly in foreign markets on the basis of price and product. Under the Working Capital Guarantee Program, EXIM provides repayment guarantees to lenders on secured, short-term working capital loans made to qualified exporters. The guarantee may be approved for a single loan or a revolving line of credit.

In the event that a buyer defaults on a transaction insured by EXIM the insured exporter or lender may seek payment by the submission of a claim.

DATES: Comments must be received on or before February 15, 2018 to be assured of consideration.

ADDRESSES: Comments may be submitted electronically on WWW.REGULATIONS.GOV or by mail to Office of Information and Regulatory Affairs, 725 17th Street NW, Washington, DC 20038, Attn: OMB 3048-10-03.

The information collection tool can be reviewed at: http://www.exim.gov/pub/pending/eib10-03.pdf (EIB 10-03).

SUPPLEMENTARY INFORMATION: Title and Form Number: EIB 10-03 Notice of Claim and Proof of Loss, Export Credit Insurance Policies.

OMB Number: 3048-0033.

Type of Review: Regular.

Need and Use: This collection of information is necessary, pursuant to 12 U.S.C. 635(a)(1), to determine if such claim complies with the terms and conditions of the relevant insurance policy.

Affected Public: This form affects entities involved in the export of U.S. goods and services.

Annual Number of Respondents: 300.

Estimated Time per Respondent: 45 minutes.

Annual Burden Hours: 225 hours.

Frequency of Reporting of Use: As needed to request claim payment.

Government Expenses:

Reviewing Time per Year: 300 hours.

Average Wages per Hour: $42.50.

Average Cost per Year: $12,750 (time * wages).

Benefits and Overhead: 20%.

Total Government Cost: $15,300.

Bassam Doughman,
IT Specialist.

[FR Doc. 2018-00512 Filed 1-12-18; 8:45 am]

BILLING CODE 6690-01-P